DEPARTMENT OF ENERGY

Federal Energy Regulatory Commission

[Docket Nos. RP03-398-000 and RP04-155-000 (Consolidated)]

Northern Natural Gas Company; Notice of Comment Period

June 25, 2004.

On May 21, 2004, Northern Natural Gas Company (Northern) filed reply comments in the above-docket proceeding. Included in the reply comments was a proposal by Northern to modify its gas quality proposal that had been the topic of the April 20, 2004, technical conference ordered in this proceeding. 106 FERC ¶ 61,195.

By this notice, parties are being given an opportunity to file comments on the proposal. Notice is hereby given that parties may file comments on Northern's proposal on or before July 2, 2004.

Magalie R. Salas,
Secretary.

[FR Doc. E4-1451 Filed 6-30-04; 8:45 am]

BILLING CODE 6717-01-P